FEDERAL COMMUNICATIONS COMMISSION

[CC Docket No. 96-45; DA 03-3731]

Public Service Cellular, Inc. for Designation as an Eligible Telecommunications Carrier in Georgia

AGENCY: Federal Communications Commission.

ACTION: Notice; solicitation of comments.

SUMMARY: In this document, the Wireline Competition Bureau sought comment on the Public Service Cellular, Inc. (PSC) petition. PSC is seeking designation as an eligible telecommunications carrier (ETC) to receive federal universal service support for service offered throughout its licensed service area in the state of Georgia.

DATES: Comments are due on or before February 9, 2004. Reply comments are due on or before February 23, 2004.

ADDRESSES: Federal Communications Commission, 445 Twelfth Street, SW., Washington, DC 20554. See SUPPLEMENTARY INFORMATION for further filing instructions.

FOR FURTHER INFORMATION CONTACT: Scott A. Mackoul, Attorney, Wireline Competition Bureau, Telecommunications Access Policy Division, (202) 418-7498, TTY (202) 418-0484.

SUPPLEMENTARY INFORMATION: This is a summary of the Commission's Public Notice, CC Docket No. 96-45, released November 20, 2003. On September 23, 2003, PSC filed with the Commission a petition pursuant to section 214(e)(6) of the Communications Act of 1934, as amended, to receive federal universal service support in the State of Georgia. PSC specifically seeks ETC designation to receive support for the service it provides in its commercial mobile radio service (CMRS) licensed areas that are currently served by non-rural telephone companies and Public Service Telephone Company (PSTC), which is a rural telephone company and a commonly owned affiliate of PSC. In support of its request, PSC contends that: the Georgia Public Service Commission (Georgia Commission) has provided an affirmative statement that it does not exercise jurisdiction over CMRS carriers in general, and PSC specifically, for purposes of making determinations concerning eligibility for ETC designations; PSC satisfies all the statutory and regulatory prerequisites for ETC designation; and designating PSC as an ETC will serve the public interest.

Pursuant to § 54.207 of the Commission's rules, PSC also requests that the Commission designate PSC as an ETC in service areas defined along boundaries that differ from PSTC's rural study area boundary. PSC requests that each PSTC wire center in which PSC intends to provide service is classified as a separate service area on a wire center by wire center basis. PSC also states that PSTC's wire centers are completely within PSC's CMRS service areas except for the Culloden and Lizella wire centers. PSC requests ETC designation in the portions of each of the Culloden and Lizella wire centers where it is licensed to provide mobile services. PSC maintains that the proposed redefinition of service areas for ETC purposes is consistent with the factors to be considered when redefining a rural telephone company service area, as enumerated by the Federal-State Joint Board on Universal Service. The Wireline Competition Bureau seeks comment on PSC's petition.

The petitioner must provide copies of its petition to the Georgia Commission. The Commission will also send a copy of this Public Notice to the Georgia Commission by overnight express mail to ensure that the Georgia Commission is notified of the notice and comment period.

Pursuant to §§ 1.415 and 1.419 of the Commission's rules, 47 CFR 1.415, 1.419, interested parties may file comments as follows: comments are due on or before February 9, 2004, and reply comments are due on or before February 23, 2004. Comments may be filed using the Commission's Electronic Comment Filing System (ECFS) or by filing paper copies. See Electronic Filing of Documents in Rulemaking Proceedings, 63 FR 24121, May 1, 1998.

Comments filed with the Commission through the ECFS can be sent as an electronic file via the Internet to <http://www.fcc.gov/e-file/ecfs.html>. Generally, only one copy of an electronic submission must be filed. If multiple docket or rulemaking numbers appear in the caption of this proceeding, however, commenters must transmit one electronic copy of the comments to each docket or rulemaking number referenced in the caption. In completing the transmittal screen, commenters should include their full name, U.S. Postal Service mailing address, and the applicable docket or rulemaking number. Parties may also submit an electronic comment by Internet e-mail. To get filing instructions for e-mail comments, commenters should send an e-mail to ecfs@fcc.gov, and should include the following words in the body of the message, “get form <your e-mail address>.” A sample form and directions will be sent in reply.

Parties who choose to file by paper must file an original and four copies of each filing. If more than one docket or rulemaking number appears in the caption of this proceeding, commenters must submit two additional copies for each additional docket or rulemaking number. Filings can be sent by hand or messenger delivery, by commercial overnight courier, or by first-class or overnight U.S. Postal Service mail (although we continue to experience delays in receiving U.S. Postal Service mail). The Commission's contractor, Natek, Inc., will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building. Commercial overnight mail (other than U.S. Postal Service Express Mail and Priority Mail) must be sent to 9300 East Hampton Drive, Capitol Heights, MD 20743. U.S. Postal Service first-class mail, Express Mail, and Priority Mail should be addressed to 445 12th Street, SW., Washington, DC 20554. All filings must be addressed to the Commission's Secretary, Marlene H. Dortch, Office of the Secretary, Federal Communications Commission.

Parties also must send three paper copies of their filing to Sheryl Todd, Telecommunications Access Policy Division, Wireline Competition Bureau, Federal Communications Commission, 445 12th Street SW., Room 5-B540, Washington, DC 20554. In addition, commenters must send diskette copies to the Commission's copy contractor, Qualex International, 445 12th Street, SW., Room CY-B402, Washington, DC 20054.

Pursuant to § 1.1206 of the Commission's rules, 47 CFR 1.1206, this proceeding will be conducted as a permit-but-disclose proceeding in which ex parte communications are permitted subject to disclosure.

Federal Communications Commission.
Sharon Webber,
Deputy Chief, Wireline Competition Bureau, Telecommunications Access Policy Division.

[FR Doc. 04-1837 Filed 1-27-04; 8:45 am]

BILLING CODE 6712-01-P